NUCLEAR REGULATORY COMMISSION

[NRC-2015-0278]

Guidance on Making Changes to Emergency Plans for Nuclear Power Reactors

AGENCY: Nuclear Regulatory Commission.

ACTION: Draft regulatory guide; request for comment.

SUMMARY: The U.S. Nuclear Regulatory Commission (NRC) is issuing for public comment draft regulatory guide (DG), DG-1324, “Guidance on Making Changes to Emergency Plans for Nuclear Power Reactors.” This guidance is proposed Revison 1 of RG 1.219, which incorporates additional information on making changes to emergency plans by facilities that have permanently ceased operations.

DATES: Submit comments by February 22, 2016. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods (unless this document describes a different method for submitting comments on a specified subject):

• Federal Rulemaking Web site: Go to http://www.regulations.gov and search for Docket ID NRC-2015-0278. Address questions about NRC dockets to Carol Gallagher; telephone: (301) 415-3463; email: Carol.Gallagher@nrc.gov. For technical questions, contact the individual(s) listed in the FOR FURTHER INFORMATION CONTACT section of this document.

• Mail comments to: Cindy Bladey, Office of Administration, Mail Stop: OWFN 12H08, U.S. Nuclear Regulatory Commission, Washington, DC 20555-0001.

For additional direction on accessing information and submitting comments, see “Accessing Information and Submitting Comments” in the SUPPLEMENTARY INFORMATION section of this document.

FOR FURTHER INFORMATION CONTACT: Stephen F. LaVie, Office of Nuclear Security and Incident Response, telephone: 301-287-3741, email: Steve.LaVie@nrc.gov: and Anthony Markley, Office of Nuclear Regulatory Research, telephone: 301-415-3165, email: Anthony.Markley@nrc,gov. Both are staff of the U.S. Nuclear Regulatory Commission, Washington, DC 20555-0001.

SUPPLEMENTARY INFORMATION:

I. Obtaining Information and Submitting Comments

A. Obtaining Information

Please refer to Docket ID NRC-2015-0278 when contacting the NRC about the availability of information regarding this document. You may obtain publically-available information related to this document, by any of the following methods:

• Federal Rulemaking Web site: Go to http://www.regulations.gov and search for Docket ID NRC-2015-0278. Address questions about NRC dockets to Carol Gallagher; telephone: 301-415-3463; email: Carol.Gallagher@nrc.gov. For technical questions, contact the individual(s) listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The DG is electronically available in ADAMS under Accession No. ML15054A370.

• NRC's PDR: You may examine and purchase copies of public documents at the NRC's PDR, Room O1-F21, One White Flint North, 11555 Rockville Pike, Rockville, Maryland 20852.

B. Submitting Comments

Please include Docket ID NRC-2015-0278 in your comment submission.

The NRC cautions you not to include identifying or contact information that you do not want to be publicly disclosed in your comment submission. The NRC posts all comment submissions at http://www.regulations.gov as well as enters the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a DG in the NRC's “Regulatory Guide” series. This series was developed to describe and make available to the public such information as methods that are acceptable to the NRC staff for implementing specific parts of the NRC's regulations, techniques that the staff uses in evaluating specific problems or postulated accidents, and data that the staff needs in its review of applications for permits and licenses.

The DG, entitled, “Guidance on Making Changes to Emergency Plans for Nuclear Power Reactors,” is temporarily identified by its task number, DG-1324. DG-1324 is proposed revision 1 of Regulatory Guide 1.219. The guide describes methods that the NRC staff considers acceptable to implement the requirements in Title 10, Section 50.54(q), of the Code of Federal Regulations (10 CFR) Part 50, “Domestic Licensing of Production and Utilization Facilities.” Requirements in 10 CFR 50.54(q) relate to emergency preparedness and specifically to making changes to emergency response plans. Revision 0 of this guide was written focusing on operating nuclear power reactors.

This guide is being updated to provide clarification on how the guidance applies to emergency plan changes at facilities that have certified permanent cessation of operation pursuant to 10 CFR 50.82, “Termination of License,” or 10 CFR 52.110, “Termination of License,” as applicable.

In 2013, three nuclear power reactor licensees permanently ceased operations at their facilities. Some of these licensees changed their emergency plans assuming that the inherently lower risk of a radiological accident due to the cessation of operations and 10 CFR 50.59 change processes were sufficient to address changes to the emergency plan. However, 10 CFR 50.54(q) requires licensees to gain prior NRC approval of emergency plan changes that would no longer comply with one or more regulations or that would constitute a reduction in the plan effectivness. The licensee would need to request prior NRC approval through a license amendment request under 10 CFR 50.90, “Application for Amendment of License, Construction Permit, or Early Site Permit,” or request an exemption under 10 CFR 50.12, “Specific Exemptions.”

This revision is being proposed to provide clarification on how the regulatory guidance applies to emergency plan changes at nuclear power plant facilities which have permanently shut down. Additionally, editorial changes have been made to reflect current format of the regulatory guide document series.

III. Backfitting and Issue Finality

Issuance of this regulatory guide in final form would not constitute backfitting as defined in 10 CFR 50.109 (the Backfit Rule) and would not otherwise be inconsistent with the issue finality provisions in 10 CFR part 52. As discussed in the “Implementation” discussion in this regulatory guide, the NRC has no current intention to impose this regulatory guide on holders of current operating licenses or combined licenses. Moreover, explanations of the process by which a licensee makes changes to its emergency plan, provided in response to misinterpretations of the NRC's regulations by licensees, do not constitute modifications of or additions to systems, structures, components, or design of a facility; or the procedures or organization required to design, construct or operate a facility within the meaning of 50.109(a)(1). Accordingly, the issuance of this regulatory guide would not constitute “backfitting” as defined in 50.109(a)(1) or otherwise be inconsistent with the applicable issue finality provisions in part 52.

This regulatory guide may be applied to applications for operating licenses and combined licenses docketed by the NRC as of the date of issuance of the final regulatory guide, as well as future applications for operating licenses and combined licenses submitted after the issuance of this regulatory guide. Such action would not constitute backfitting as defined in 50.109(a)(1) or otherwise be inconsistent with the applicable issue finality provisions in 10 CFR part 52, inasmuch as such applicants or potential applicants are not within the scope of entities protected by the Backfit Rule or the relevant issue finality provisions in part 52.

Dated at Rockville, Maryland, this 18th day of December, 2015.
For the Nuclear Regulatory Commission.
Thomas H. Boyce,
Chief, Regulatory Guidance and Generic Issues Branch, Division of Engineering, Office of Nuclear Regulatory Research.

[FR Doc. 2015-32413 Filed 12-23-15; 8:45 am]

BILLING CODE 7590-01-P